DEPARTMENT OF COMMERCE

Foreign-Trade Zones Board

[B-95-2013]

Notification of Proposed Production Activity, Revlon Consumer Products Corporation, Subzone 93G, (Cosmetics and Personal Care Products), Oxford, North Carolina

Revlon Consumer Products Corporation (Revlon), operator of Subzone 93G, submitted a notification of proposed production activity to the FTZ Board for its facility in Oxford, North Carolina. The notification conforming to the requirements of the regulations of the FTZ Board (15 CFR 400.22) was received on October 17, 2013.

The subzone currently has authority to produce certain cosmetics and personal care products under FTZ procedures using certain foreign inputs. The current request involves the use of additional inputs in the production of the finished products noted above. Pursuant to 15 CFR 400.14(b), FTZ activity would be limited to the specific foreign-status materials and components and specific finished products described in the submitted notification (as described below) and subsequently authorized by the FTZ Board.

Production under FTZ procedures could exempt Revlon from customs duty payments on the foreign status components used in export production. On its domestic sales, Revlon would be able to choose the duty rates during customs entry procedures that apply to perfume and bath splash, lip make-up products, eye make-up products, nail polish, face make-up powder, foundation and concealers, shampoo, hair perm or relaxer, hair spray, hair color and hair dye, and deodorant and anti-perspirant (duty rate ranges from free to 4.9%) for the foreign status inputs noted below. Customs duties also could possibly be deferred or reduced on foreign status production equipment.

The components and materials sourced from abroad include: Chamomilla recutita (matricaria) flower/leaf extract, squalane, lanolin, shea butter, propylene glycol dicaprylate, kaolin, mica, talc, isododecane, petroleum jelly, paraffin wax, silica silylate, inorganic acid, zinc oxide, titanium dioxide, bismuth oxychloride, aluminum chlorohydrate, hydrogen peroxide, boron nitride, isopropyl alcohol, stearyl alcohol, propylene glycol, butylene glycol, resorcinol, methylresorcinol, lanosterol esters, butyl ether, ethylparaben, retinyl palmitate, lauric acid, potassium sorbate, ethylene brassylate, copper gluconate, octinoxate, phenylenediamine, ethanolamine, lauroyl lysine, tetrasodium, hydrotriticum, phenyl trimethicone, erythorbic acid, lauryl pyrrolidone, caffeine, aluminum zirconium, fruit extract, sodium laureth sulfate, cosmetic wax, oligopeptide, cetearyl alcohol polysorbate, calcium aluminum borosilicate, polybutene, lauryl methacrylate, polymethylsilsesquioxane, sodium acrylate, polyamide 12, nylon 12, trimethylol hexyllactone crosspolymer, dimethicone, cellulose, agarose, polymers, PVC, methyl methacrylate, and ethylene terapthalate (duty rate ranges from free to 7.7%).

Public comment is invited from interested parties. Submissions shall be addressed to the Board's Executive Secretary at the address below. The closing period for their receipt is December 23, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: November 6, 2013.
Andrew McGilvray,
Executive Secretary.

[FR Doc. 2013-27167 Filed 11-12-13; 8:45 am]

BILLING CODE 3510-DS-P